DEPARTMENT OF ENERGY

Federal Energy Regulatory Commission

[Docket No. EL02-111-000]

Midwest Independent System Operator, PJM Interconnection, L.L.C., et al.: Notice Cancelling Settlement Conference

August 27, 2002.

On August 22, 2002, the Commission issued a Notice of Settlement Conference in this matter pursuant to Rule 601 of the Commission's Rules of Practice and Procedure, 18 CFR 385.601. The settlement conference in the above docketed proceeding was to be held at the Commission's offices on September 5, 2002, to address the issue of eliminating rate pancaking between the Midwest ISO and PJM, as discussed in the Commission's July 31, 2002 order, 100 FERC ¶ 61,137 (paragraphs 49-52, and ordering paragraphs D and E). This conference is cancelled.

At the August 22, 2002, Single Market Design Forum, the MISO and PJM stakeholders made progress in discussing this issue and agreed to hold additional stakeholder meetings on the issue prior to September 16, 2002. In consideration of the time demands on all participants and the need to avoid multiple processes, the settlement conference scheduled through the Commission's Dispute Resolution Service is canceled. The Dispute Resolution Service is available to assist any of the parties with future needs.

If a party has any questions regarding this notice cancelling the settlement conference, please call Steven Rothman at (202) 502-8643 or send an e-mail to Steven.Rothman@ferc.gov. Parties may also communicate with Richard Miles, the Director of the Commission's Dispute Resolution Service at 1(877) FERC-ADR (337-2237) or (202) 502-8702 and his e-mail address is Richard.Miles@ferc.gov.

Linwood A. Watson, Jr.,
Deputy Secretary.

[FR Doc. 02-22293 Filed 8-30-02; 8:45 am]

BILLING CODE 6717-01-P